DEPARTMENT OF THE TREASURY

Submission for OMB Review; Comment Request

October 18, 2000.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before November 27, 2000.

Internal Revenue Service (IRS)

OMB Number: 1545-0946.

Form Number: IRS Form 8554.

Type of Review: Extension.

Title: Application for Renewal of Enrollment To Practice Before the Internal Revenue Service.

Description: This information relates to the approval of continuing professional education programs and the renewal of the enrollment status for those individuals admitted (enrolled) by the Internal Revenue Service.

Respondents: Individuals or households.

Estimated Number of Respondents/Recordkeepers: 39,500.

Estimated Burden Hours Per Respondent/Recordkeeper: 1 hour, 12 minutes.

Frequency of Response: Other (one-time filing).

Estimated Total Reporting/Recordkeeping Burden: 47,400 hours.

OMB Number: 1545-1160.

Regulation Project Number: CO-93-90 Final.

Type of Review: Extension.

Title: Corporations; Consolidated Returns-Special Rules Relating To Dispositions and Deconsolidations of Subsidiary Stock.

Description: These regulations prevent elimination of corporate-level tax because of the operation of the consolidated returns investment adjustment rules. Statements are required for dispositions of a subsidiary's stock for which losses are claimed, for basis reductions within 2 years of the stock's deconsolidation, and for elections by the common parent to retain the NOLs of a disposed subsidiary.

Respondents: Business or other for-profit.

Estimated Number of Respondents: 3,000.

Estimated Burden Hours Per Respondent: 2 hours.

Frequency of Response: Other (one-time).

Estimated Total Reporting Burden: 6,000 hours.

OMB Number: 1545-1271.

Regulation Project Number: REG-209035-86 Final and REG-208165-91 Final.

Type of Review: Extension.

Title: Stock Transfer Rules (REG-209035-86); and Certain Transfers of Stock or Securities by U.S. Persons to Foreign Corporations and Related Reporting Requirements (REG-208165-91)

Description: A U.S. person must generally file a gain recognition agreement with the Internal Revenue Service in order to defer gain on a section 367(a) transfer of stock to a foreign corporation, and must file a notice with the IRS if it realizes any income in a section 367(b) exchange. These requirements ensure compliance with the respective Code sections.

Respondents: Business or other for-profit.

Estimated Number of Respondents: 580.

Estimated Burden Hours Per Respondent: 4 hours, 7 minutes.

Frequency of Response: Annually.

Estimated Total Reporting Burden: 2,390 hours.

OMB Number: 1545-1551.

Revenue Procedure Number: Revenue Procedure 97-36, Revenue Procedure 97-38, Revenue Procedure 97-39, and Revenue Procedure 99-49.

Type of Review: Extension.

Title: Changes in Methods of Accounting.

Description: The information collected in the four revenue procedures is required in order for the Commissioner to determine whether the taxpayer properly is requesting to change its method of accounting and the terms and conditions of the change.

Respondents: Business or other for-profit, Individuals or households, Not-for-profit institutions, Farms.

Estimated Number of Respondents/Recordkeepers: 24,000.

Estimated Burden Hours Per Respondent/Recordkeeper: 9 hours, 21 minutes.

Frequency of Response: Annually.

Estimated Total Reporting/Recordkeeping Burden: 224,389 hours.

OMB Number: 1545-1697.

Revenue Procedure Number: Revenue Procedure 2000-35.

Type of Review: Extension.

Title: Section 1445 Withholding Certificates.

Description: Revenue Procedure 2000-35 provides guidance applications for withholding certificates under Code section 1445.

Respondents: Business or other for-profit, Individuals or households.

Estimated Number of Respondents/Recordkeepers: 6,000.

Estimated Burden Hours Per Respondent/Recordkeeper: 10 hours.

Frequency of Response: On occasion.

Estimated Total Reporting/Recordkeeping Burden: 60,000 hours.

Clearance Officer: Garrick Shear, Internal Revenue Service, Room 5244, 1111 Constitution Avenue, NW, Washington, DC 20224.

OMB Reviewer: Alexander T. Hunt, (202) 395-7860, Office of Management and Budget, Room 10202, New Executive Office Building, Washington, DC 20503.

Lois K. Holland,
Departmental Reports Management Officer.

[FR Doc. 00-27474 Filed 10-25-00; 8:45 am]

BILLING CODE 4830-01-U